DEPARTMENT OF HOMELAND SECURITY

U.S. Customs and Border Protection

Continuing Education Requirement for Licensed Customs Brokers

AGENCY: U.S. Customs and Border Protection, Department of Homeland Security.

ACTION: General notice.

SUMMARY: This document announces that individual customs broker license holders may begin completing qualified continuing broker education courses on January 1, 2025 (compliance date) and, accordingly, 20 credits as the prorated number of required credit hours for the triennial period beginning on February 1, 2024, and ending on January 31, 2027. Further, this notice announces the criteria that U.S. Customs and Border Protection (CBP) used to select qualified accreditors, the list of CBP-selected qualified accreditors, and the period of award for these accreditors.

DATES: Individual brokers may begin completing qualified continuing broker education courses on January 1, 2025. The initial three-year period of award for CBP-selected qualified accreditors will be from June 2, 2024, through June 1, 2027.

FOR FURTHER INFORMATION CONTACT: Elena D. Ryan, Special Advisor, Broker Continuing Education, Trade Policy and Programs, Office of Trade, U.S. Customs and Border Protection, at (202) 302-2426 or CONTINUINGEDUCATION@cbp.dhs.gov.

SUPPLEMENTARY INFORMATION:

I. Background

Section 641 of the Tariff Act of 1930, as amended (19 U.S.C. 1641), provides that individuals and business entities must hold a valid customs broker's license and permit to transact customs business on behalf of others. The statute also sets forth standards for the issuance of broker licenses and permits, provides for disciplinary action against customs brokers in the form of suspension or revocation of such licenses and permits, and provides for the assessment of monetary penalties against customs brokers. The statute also provides for the assessment of monetary penalties against persons for conducting customs business without the required broker's license.

Based upon 19 U.S.C. 1641, U.S. Customs and Border Protection (CBP) has promulgated regulations setting forth additional obligations of customs brokers pertinent to the conduct of their customs business, in part 111 of title 19 of the Code of Federal Regulations (19 CFR part 111). Part 111 provides the regulations regarding the licensing and granting of permits to persons desiring to transact customs business as customs brokers. These regulations also include the qualifications required of applicants, the procedures for applying for licenses and permits, the duties and responsibilities of individual brokers, the grounds and procedures for disciplining individual brokers, including the assessment of monetary penalties, and the revocation or suspension of licenses and permits. CBP has also updated part 111 to require individual brokers to satisfy a continuing education requirement.

CBP believes that maintaining current knowledge of customs laws and procedures is essential for customs brokers to meet their legal duties. Requiring a customs broker to fulfill a continuing education requirement is the most effective means to ensure that the customs broker keeps up with an ever-changing customs practice after passing the broker exam and subsequently receiving the license. Therefore, on October 28, 2020, CBP published an advance notice of proposed rulemaking (ANPRM) in the Federal Register (85 FR 68260), soliciting comments on a potential framework of continuing education requirements for licensed customs brokers. On September 10, 2021, CBP published a notice of proposed rulemaking (NPRM) in the Federal Register (86 FR 50794), in which CBP responded to the 29 comments it received in response to the ANPRM, and adopted some of the suggestions proposed by the commenters. CBP thus drafted the NPRM accordingly and announced proposed regulatory amendments to include a proposed framework for individual customs broker license holders (individual brokers) to administratively maintain their license through completion of qualified continuing broker education.

On June 23, 2023, CBP published a final rule in the Federal Register (88 FR 41224). In the final rule, CBP responded to the 70 comments it received in response to the NPRM, and adopted as final, with changes, the proposed amendments. The final rule added a new subpart F in part 111, requiring continuing education for individual brokers and setting forth the framework for administering the requirement. In addition, CBP stated that it would announce, in a Federal Register notice following publication of the final rule, the date on which individual brokers may begin completing qualified continuing broker education courses and the prorated number of required continuing broker education credit hours for the triennial period beginning on February 1, 2024, and ending on January 31, 2027 (the 2024-2027 triennial period). The final rule also noted that CBP will announce the date on which qualified continuing broker education courses will be available to individual brokers to begin meeting the requirement and will publish an initial list of available qualified continuing broker education opportunities on CBP.gov. Lastly, CBP will periodically publish notices in the Federal Register announcing the criteria that CBP will use to select an accreditor, the period during which CBP will accept applications by potential accreditors, and the period of award for CBP-selected accreditors.

II. CBP Implementation of the Continuing Education Requirement for Licensed Customs Brokers

A. Compliance Date and Prorated Number of Required Continuing Broker Education Credit Hours for the 2024-2027 Triennial Period

CBP has now completed full implementation of the framework for administering the new continuing broker education requirement. Thus, CBP is ready to announce that individual brokers may begin completing qualified continuing broker education courses on January 1, 2025 (compliance date). On this same date, qualified continuing broker education courses will be made available to individual brokers to begin meeting the requirement. The initial list of available qualified continuing broker education opportunities, as well as free qualified continuing broker education activities available to individual brokers through CBP and other U.S. government agency offerings, may be found at CBP.gov. CBP believes that individual brokers will be able to fulfill the continuing broker education requirement through the free, online-based trainings that CBP and other U.S. government agencies offer, alone.

The CBP regulations in section 111.102(b) require individual brokers to complete at least 36 continuing education credits of qualifying continuing broker education per triennial period, with limited exceptions. In the final rule, CBP announced that, to allow for full implementation of the continuing education requirement, CBP would reduce the 36 continuing education credits required to be completed for the 2024-2027 triennial period by six (6) credit hours for approximately every six (6) months that elapse between February 1, 2024, and the compliance date on which individual brokers may begin completing qualified continuing broker education courses. To give individual brokers additional time to prepare for the new continuing education requirement, CBP is reducing the number of required credit hours that individual brokers must earn to 20 credit hours for the 2024-2027 triennial period (with certification of completion of the credits by February 1, 2027). This reduced number of credits applies to the 2024-2027 triennial period only. Individual brokers are required to earn the full 36 credit hours for all triennial periods following the 2024-2027 triennial period.

B. CBP-Selected Accreditors

In order to supplement the available trainings offered by CBP and other U.S. government agencies, CBP selected accreditors to administer the accreditation of additional broker training and educational activities offered by providers other than by a U.S. government agency.

Section 111.103(c) sets forth the process used by CBP for selection of accreditors, based on a Request for Information (RFI) and a Request for Proposal (RFP) announced through the System for Award Management (SAM) or any other electronic system for award management approved by the U.S. General Services Administration, in accordance with the Federal Acquisition Regulation (48 CFR 1.000 et seq.), for a specific period of award, subject to renewal. On August 29, 2023, CBP announced through SAM an RFI (Notice ID 201400XX) seeking information from organizations interested in establishing a relationship with CBP to review and accredit commercial training, programs, course materials, and other activities relating to the new continuing education requirement for licensed customs brokers. CBP received replies from 11 organizations expressing such interest. In response to the replies CBP received, on February 6, 2024, CBP announced through SAM a non-traditional RFP (Notice ID 70B06C24R00000030) to solicit applications to become approved accreditors of qualifying continuing customs broker education. The RFP set forth the following criteria to be used for the selection of accreditors:

• Identification of at least one key official in the applicant's organization that holds an individual customs broker license.

• Demonstration of knowledge of international trade laws, customs laws and regulations, and general customs practices for imported goods and goods subject to drawback.

• Demonstration of knowledge of other U.S. Government agencies that are involved in transactions of international trade.

• A description of the applicant's process for handling accreditation requests, beginning with how an individual submits a training or educational activity proposed for credit to the applicant, including detail on electronic and online methods for submitting materials for consideration.

• Confirmation that the applicant's process for handling accreditation requests uses a secure online (web-based) repository and an overview of the basic functionality of the envisioned online repository, and confirmation that the applicant can protect any business sensitive or proprietary information collected in the requests.

• Identification of up to five (5) professional references with contact information, who should be familiar with the applicant's relevant professional history, job performance, and have the knowledge to determine if the applicant is capable of conducting the kind of complex work described in this RFP. Additionally, the applicant was required to provide contact information that included an individual's full name, entity employing the individual (if applicable), email address, and telephone number.

• Disclosure of any known potential organizational or personal conflicts of interest, any applicant personnel who have previously been employed by CBP, and any applicant personnel who perform critical functions for one or more other applicants applying to be approved accreditors under this RFP.

• Demonstration of the applicant's ability and commitment to complete the accreditation process, resulting in transmission of an approval or denial of credit to the requestor, within four (4) business days of request submission.

CBP evaluated the applications received in response to the RFP based on the above-mentioned criteria and selected the following accreditors:

• E-Merchants Trade Council Inc. (EMTC)-Global Trade Professionals Alliance (GTPA)-Practera

• International Compliance Professionals Association (ICPA)

• National Customs Brokers and Forwarders Association of America (NCBFAA)

• Sandler Travis & Rosenberg, P.A.

• TrüTrade Solutions, Inc.

The initial three-year period of award for CBP-selected accreditors will be from June 2, 2024, through June 1, 2027. The list of CBP-selected accreditors may be found at CBP.gov.

Dated: October 11, 2024.
AnnMarie R. Highsmith,
Executive Assistant Commissioner, Office of Trade.

[FR Doc. 2024-24464 Filed 10-31-24; 8:45 am]

BILLING CODE 9111-14-P